DEPARTMENT OF HOMELAND SECURITY

Federal Emergency Management Agency

[Docket ID FEMA-2019-0002; Internal Agency Docket No. FEMA-B-1742]

Final Flood Hazard Determinations

AGENCY: Federal Emergency Management Agency; DHS.

ACTION: Notice; correction.

SUMMARY: On August 8, 2019, FEMA published in the Federal Register a final flood hazard determination notice that contained an erroneous table. This notice provides corrections to that table. The table provided here represents the final flood hazard determinations and communities affected for San Diego County, California and Incorporated Areas.

DATES: The date of December 20, 2019 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

Correction

In the final flood hazard determination notice published at 84 FR 39008 in the August 8, 2019, issue of the Federal Register, FEMA published a table titled San Diego County, California and Incorporated Areas Docket No.: FEMA-B-1742. This table contained inaccurate information as to the community map repository for the City of Del Mar, City of San Diego and Unincorporated Areas of San Diego County featured in the table.

In this document, FEMA is publishing a table containing the accurate information. The information provided below should be used in lieu of that previously published.

(Catalog of Federal Domestic Assistance No. 97.022, “Flood Insurance.”)

Michael M. Grimm,
Assistant Administrator for Risk Management, Department of Homeland Security, Federal Emergency Management Agency.

Community | Community map repository address
San Diego County, California and Incorporated Areas
Docket No.: FEMA-B-1742
City of Carlsbad | Building and Development Department, 1635 Faraday Avenue, Carlsbad, CA 92008.
City of Chula Vista | City Hall, 276 4th Avenue, Chula Vista, CA 91910.
City of Coronado | City Hall, 1825 Strand Way, Coronado, CA 92118.
City of Del Mar | City Hall, 1050 Camino Del Mar, Del Mar, CA 92014.
City of Encinitas | City Hall, 505 South Vulcan Avenue, Encinitas, CA 92024.
City of Imperial Beach | City Hall, 825 Imperial Beach Boulevard, Imperial Beach, CA 91932.
City of National City | City Hall, 1243 National City Boulevard, National City, CA 91950.
City of Oceanside | City Hall, 300 North Coast Highway, Oceanside, CA 92054.
City of San Diego | Development Services Department, 1222 First Avenue, MS 301, San Diego, CA 92101.
City of Solana Beach | City Hall, 635 South Highway 101, Solana Beach, CA 92075.
Unincorporated Areas of San Diego County | Department of Public Works, Flood Control, 5510 Overland Avenue, Suite 410, MS 0326, San Diego, CA 92123.

[FR Doc. 2019-18693 Filed 8-28-19; 8:45 am]

BILLING CODE 9110-12-P